DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 20, 2010. Address written comments to Statutory Import Programs Staff, Room 3720, U.S. Department of Commerce, Washington, DC 20230. Applications may be examined between 8:30 a.m. and 5 p.m. at the U.S. Department of Commerce in Room 3720.

Docket Number: 10-065. Applicant: Vanderbilt University, 2201 West End Avenue, Nashville, TN 37235. Instrument: Electron Microscope. Manufacturer: FEI Company, Czech Republic. Intended Use: The instrument will be used to support general biological investigations into structure function relationships. Key capabilities of the instrument include extended variable pressure capability, low kV and Schottky field emission source, secondary and backscatter detection, and a temperature control Peltier stage. Justification for Duty-Free Entry: There are no instruments of the same general category manufactured in the United States. Application accepted by Commissioner of Customs: October 27, 2010.

Docket Number: 10-066. Applicant: Vanderbilt University, 2201 West End Avenue, Nashville, TN 37235. Instrument: Electron Microscope. Manufacturer: JEOL Limited, Japan. Intended Use: The instrument will be used to study cement-based composites, environmental materials, and geological samples for their microstructure, phase characteristics, and interfacial processes. This instrument can image and analyze samples that are completely wet while carrying the humidity and pressure in the specimen chamber. This instrument also offers a WetSTEM detector for imaging completely wet samples in both bright field (BF) and dark field (DF) modes without special sample handling/encapsulation. Justification for Duty-Free Entry: There are no instruments of the same general category manufactured in the United States. Application accepted by Commissioner of Customs: October 27, 2010.

Dated: November 22, 2010.
Gregory Campbell,
Acting Director, IA Subsidies Enforcement Office.

[FR Doc. 2010-29967 Filed 11-26-10; 8:45 am]

BILLING CODE 3510-DS-P